DEPARTMENT OF TRANSPORTATION

Federal Aviation Administration

14 CFR Part 39

[Docket No. FAA-2021-0717; Project Identifier AD-2021-00814-R; Amendment 39-21707; AD 2021-18-06]

RIN 2120-AA64

Airworthiness Directives; Airbus Helicopters

AGENCY: Federal Aviation Administration (FAA), DOT.

ACTION: Final rule; request for comments.

SUMMARY: The FAA is superseding Airworthiness Directive (AD) 2021-11-03, which applied to certain Airbus Helicopters Model EC 155B, EC155B1, SA-365N, SA-365N1, AS-365N2, and AS 365 N3 helicopters. AD 2021-11-03 required inspecting the main gearbox (MGB) fixed cowling front fitting (MGB front fitting), and depending on findings, corrective action. This AD retains the requirements of AD 2021-11-03, and includes service information that was omitted for Airbus Helicopter Model EC 155B and EC155B1 helicopters, as specified in a European Aviation Safety Agency (now European Union Aviation Safety Agency) (EASA) AD, which is incorporated by reference. The FAA is issuing this AD to address the unsafe condition on these products.

DATES: This AD becomes effective September 10, 2021.

The Director of the Federal Register approved the incorporation by reference of certain publications listed in this AD as of July 15, 2021 (86 FR 30759, June 10, 2021).

The FAA must receive comments on this AD by October 12, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations,M-30, West Building Ground Floor, Room W12-140, 1200 New Jersey Avenue SE, Washington, DC 20590.

• Hand Delivery: Deliver to Mail address above between 9 a.m. and 5 p.m., Monday through Friday, except Federal holidays.

For EASA material incorporated by reference (IBR) in this AD, contact the EASA, Konrad-Adenauer-Ufer 3, 50668 Cologne, Germany; telephone +49 221 8999 000; email ADs@easa.europa.eu; internet www.easa.europa.eu. You may find this material on the EASA website at https://ad.easa.europa.eu. For Airbus Helicopters service information identified in this final rule, contact Airbus Helicopters, 2701 North Forum Drive, Grand Prairie, TX 75052; telephone (972) 641-0000 or (800) 232-0323; fax (972) 641-3775; or at https://www.airbus.com/helicopters/services/technical-support.html. You may view this material at the FAA, Office of the Regional Counsel, Southwest Region, 10101 Hillwood Pkwy., Room 6N-321, Fort Worth, TX 76177. For information on the availability of this material at the FAA, call (817) 222-5110. Service information also available in the AD docket on the internet at https://www.regulations.gov by searching for and locating Docket No. FAA-2021-0717.

Examining the AD Docket

You may examine the AD docket on the internet at https://www.regulations.gov by searching for and locating Docket No. FAA-2021-0717; or in person at Docket Operations between 9 a.m. and 5 p.m., Monday through Friday, except Federal holidays. The AD docket contains this AD, any comments received, and other information. The street address for Docket Operations is listed above. Comments will be available in the AD docket shortly after receipt.

FOR FURTHER INFORMATION CONTACT: Andrea Jimenez, Aerospace Engineer, COS Program Management Section, Operational Safety Branch, Compliance & Airworthiness Division, FAA, 1600 Stewart Ave., Suite 410, Westbury, NY 11590; telephone (516) 228-7330; email andrea.jimenez@faa.gov.

SUPPLEMENTARY INFORMATION:

Background

The FAA issued AD 2021-11-03, Amendment 39-21565 (86 FR 30759, June 10, 2021) (AD 2021-11-03), for certain Airbus Helicopters Model EC 155B, EC155B1, SA-365N, SA-365N1, AS-365N2, and AS 365 N3 helicopters. AD 2021-11-03 required inspecting and if necessary, replacing the MGB front fitting. AD 2021-11-03 also required modifying the MGB front fitting. AD 2021-11-03 was prompted by EASA AD 2019-0008, dated January 22, 2019 (EASA AD 2019-0008), issued by EASA, which is the Technical Agent for the Member States of the European Union, to correct an unsafe condition for certain Airbus Helicopters (AH), formerly Eurocopter, Eurocopter France, Aerospatiale, Model EC 155 B, EC 155 B1, SA 365 N, SA 365 N1, AS 365 N2, and AS 365 N3 helicopters. EASA advises of reports of an in-flight loss of engine and MGB cowlings. Subsequent investigations revealed that the MGB cowling attachment fittings failed because of mounting stress in the MGB front fitting and air intake bulkhead. This condition, if not addressed, could result in damage to the helicopter, loss of helicopter control, and possible injury to persons on the ground.

Accordingly, EASA AD 2019-0008 requires inspecting the MGB front fittings and if there is a discrepancy, the EASA AD requires applicable corrective action(s) before next flight. EASA AD 2019-0008 also requires modification of the MGB fixed cowling attachments. Accomplishing the modification constitutes a terminating action for the required inspection.

Actions Since AD 2021-11-03 Was Issued

Since AD 2021-11-03 was issued, the FAA discovered that paragraph “(h) Exceptions to EASA AD 2019-0008” of AD 2021-11-03, inadvertently omitted service information required for Airbus Helicopters Model EC 155B and EC155B1 helicopters. This AD corrects subparagraph (h)(8) to add Airbus Helicopters Alert Service Bulletin ASB No. 53A035, Revision 0, dated March 13, 2017, and ASB No. 53A035, Revision 1, dated December 20, 2018. This AD also updates the U.S. fleet size in the Costs of Compliance section.

FAA's Determination

These products have been approved by the aviation authority of another country, and are approved for operation in the United States. Pursuant to the bilateral agreement with the State of Design Authority, the FAA has been notified of the unsafe condition described in the EASA AD referenced above. The FAA is issuing this AD after evaluating all the relevant information and determining the unsafe condition described previously is likely to exist or develop in other products of these same type designs.

Related IBR Material Under 1 CFR Part 51

This AD requires EASA AD 2019-0008, dated January 22, 2019, which the Director of the Federal Register approved for incorporation by reference as of July 15, 2021 (86 FR 30759, June 10, 2021). EASA AD 2019-0008 requires inspecting the MGB front fittings within 110 flight hours after April 14, 2017 (the effective date of EASA AD 2017-0055, dated March 31, 2017). If there is a discrepancy, the EASA AD requires applicable corrective action(s) before next flight. EASA AD 2019-0008 also requires modification of the MGB fixed cowling attachments within 660 flight hours or 23 months, whichever occurs first, after the effective date described in EASA AD 2019-0008. Accomplishing the modification constitutes a terminating action for the required inspection.

This AD also requires Airbus Helicopters Alert Service Bulletin ASB No. AS365-53.00.62 and ASB No. EC155-53A038, each Revision 0 and dated December 20, 2018 (ASB AS365-53.00.62 and ASB EC155-53A038). ASB AS365-53.00.62 applies to Model AS365-series helicopters. ASB EC155-53A038 applies to Model EC155-series helicopters. The Director of the Federal Register also approved this service information for incorporation by reference as of July 15, 2021 (86 FR 30759, June 10, 2021). This service information specifies replacing the front bracket, inspecting for stress of the MGB fixed cowlings on the radiator bulkhead, and installing an additional locking system.

This material is reasonably available because the interested parties have access to it through their normal course of business or by the means identified in the ADDRESSES section.

AD Requirements

This AD requires accomplishing the actions specified in EASA AD 2019-0008 and the service information already described, except for any differences identified as exceptions in the regulatory text of this AD.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

AD 2021-11-03 omitted service information required for compliance for certain Model EC 155B and EC155B1 helicopters. This AD corrects that error by including Airbus Helicopters Alert Service Bulletin ASB No. 53A035, Revision 0, dated March 13, 2017, and ASB No. 53A035, Revision 1, dated December 20, 2018 in the regulatory text. The public was previously provided opportunity for comment on the costs of the AD and required actions.

Accordingly, notice and opportunity for prior public comment are unnecessary pursuant to 5 U.S.C. 553(b)(3)(B). In addition, the FAA finds that good cause exists pursuant to 5 U.S.C. 553(d) for making this amendment effective in less than 30 days, for the same reasons the FAA found good cause to forego notice and comment.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA is incorporating EASA AD 2019-0008 by reference in this FAA final rule. This AD, therefore, requires compliance with EASA AD 2019-0008 in its entirety through that incorporation, except for any differences identified as exceptions in the regulatory text of this AD. Using common terms that are the same as the heading of a particular section in EASA AD 2019-0008 does not mean that operators need comply only with that section. For example, where the AD requirement refers to “all required actions and compliance times,” compliance with this AD requirement is not limited to the section titled “Required Action(s) and Compliance Time(s)” in EASA AD 2019-0008. Service information required by EASA AD 2019-0008 for compliance is available at https://www.regulations.gov by searching for and locating Docket No. FAA-2021-0717.

Comments Invited

The FAA invites you to send any written relevant data, views, or arguments about this AD. Send your comments to an address listed under ADDRESSES. Include “Docket No. FAA-2021-0717; Project Identifier AD-2021-00814-R” at the beginning of your comments. The most helpful comments reference a specific portion of the AD, explain the reason for any recommended change, and include supporting data. The FAA will consider all comments received by the closing date and may amend this AD because of those comments.

Except for Confidential Business Information (CBI) as described in the following paragraph, and other information as described in 14 CFR 11.35, the FAA will post all comments received, without change, to https://www.regulations.gov, including any personal information you provide. The agency will also post a report summarizing each substantive verbal contact received about this AD.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Andrea Jimenez, Aerospace Engineer, COS Program Management Section, Operational Safety Branch, Compliance & Airworthiness Division, FAA, 1600 Stewart Ave., Suite 410, Westbury, NY 11590; telephone (516) 228-7330; email andrea.jimenez@faa.gov. Any commentary that the FAA receives that is not specifically designated as CBI will be placed in the public docket for this rulemaking.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 53 helicopters of U.S. Registry. Labor rates are estimated at $85 per work-hour. Based on these numbers, the FAA estimates that operators may incur the following costs in order to comply with this AD.

Inspecting the MGB front fittings takes about 2 work-hours for an estimated cost of $170 per helicopter and $9,010 for the U.S. fleet. If required, replacing an MGB front fitting takes about 2 work-hours and parts cost about $590 for an estimated total cost of $760 per fitting. Other repairs will take up to 8 work-hours (excluding drying time) and parts will cost a minimal amount for an estimated cost of up to $680 per helicopter.

Modifying the MGB fixed cowling attachments takes about 5 work-hours and parts cost about $630 for an estimated cost of $1,055 per helicopter and $55,915 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national Government and the States, or on the distribution of power and responsibilities among the various levels of government.

For the reasons discussed above, I certify this regulation:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-11-03, Amendment 39-21565 (86 FR 30759, June 10, 2021); and

b. Adding the following new airworthiness directive:

2021-18-06 Airbus Helicopters: Amendment 39-21707; Docket No. FAA-2021-0717; Project Identifier AD-2021-00814-R.

(a) Effective Date

This airworthiness directive (AD) becomes effective September 10, 2021.

(b) Affected ADs

This AD replaces AD 2021-11-03, Amendment 39-21565 (86 FR 30759, June 10, 2021) (AD 2021-11-03).

(c) Applicability

This AD applies to Airbus Helicopters Model EC 155B, EC155B1, SA-365N, SA-365N1, AS-365N2, and AS 365 N3 helicopters, certificated in any category, as identified in European Aviation Safety Agency (now European Union Aviation Safety Agency) (EASA) AD 2019-0008, dated January 22, 2019 (EASA AD 2019-0008).

(d) Subject

Joint Aircraft System Component (JASC) Code: 7110, Engine Cowling System.

(e) Unsafe Condition

This AD was prompted by a report of an in-flight loss of main gearbox (MGB) and engine cowlings. The FAA is issuing this AD to address a failure of the MGB fixed cowling front fitting, and subsequent MGB cowling or engine cowling detachment, which could result in damage to the helicopter, loss of helicopter control, and possible injury to persons on the ground.

(f) Compliance

Comply with this AD within the compliance times specified, unless already done.

(g) Requirements

Except as specified in paragraph (h) of this AD: Comply with all required actions and compliance times specified in, and in accordance with, EASA AD 2019-0008.

(h) Exceptions to EASA AD 2019-0008

(1) Where EASA AD 2019-0008 refers to April 14, 2017 (the effective date of EASA AD 2017-0055, dated March 31, 2017), this AD requires using the effective date of this AD.

(2) Where EASA AD 2019-0008 refers to its effective date, this AD requires using the effective date of this AD.

(3) Where EASA AD 2019-0008 refers to flight hours (FH), this AD requires using hours time-in-service.

(4) Where EASA AD 2019-0008 requires the modification within 660 flight hours or 23 months, whichever occurs first, this AD requires the modification within 660 hours time-in-service instead.

(5) Although the service information referenced in EASA AD 2019-0008 specifies to discard certain parts, this AD requires removing those parts from service instead.

(6) Where the service information referenced in EASA AD 2019-0008 specifies to use tooling, equivalent tooling may be used.

(7) The “Remarks” section of EASA AD 2019-0008 does not apply to this AD.

(8) Where paragraph (1) of EASA AD 2019-0008 states to, “inspect the MGB fixed cowling front fittings in accordance with the instructions of paragraph 1.E.2 of the applicable inspection ASB or in accordance with the instructions of the applicable modification ASB,” this AD requires:

(i) For Model SA-365N, SA-365N1, AS-365N2, and AS 365 N3 helicopters: determining if Airbus Helicopters Alert Service Bulletin No. 53.00.55, Revision 0, dated March 13, 2017, or Revision 1, dated December 20, 2018, has or has not been complied with and following the instructions, “For helicopters on which ALERT SERVICE BULLETIN No. 53.00.55 has not been complied with” or “For helicopters on which ALERT SERVICE BULLETIN No. 53.00.55 has been complied with,” as applicable, in paragraph 1.E.2, of Airbus Helicopters Alert Service Bulletin No. AS365-53.00.62 Revision 0, dated December 20, 2018 (ASB AS365-53.00.62).

(ii) For Model EC 155B and EC155B1 helicopters: determining if Airbus Helicopters Alert Service Bulletin No. 53A035, Revision 0, dated March 13, 2017, or Revision 1, dated December 20, 2018, has or has not been complied with and following the instructions, “For helicopters on which ALERT SERVICE BULLETIN No. 53A035 has not been complied with” or “For helicopters on which ALERT SERVICE BULLETIN No. 53A035 has been complied with,” as applicable, in paragraph 1.E.2, of Airbus Helicopters Alert Service Bulletin No. EC155-53A038, Revision 0, dated December 20, 2018 (ASB EC155-53A038).

(9) Where paragraph (2) of EASA AD 2019-0008 states to, “accomplish the applicable corrective action(s) in accordance with paragraph 1.E.2 of the applicable inspection ASB or in accordance with the instructions of the applicable modification ASB,” this AD requires accomplishing the applicable corrective actions by following ASB AS365-53.00.62 or ASB EC155-53A038, as applicable to your model helicopter.

(10) Where paragraph 3.B.2.e.3 of the applicable modification ASB referenced in EASA AD 2019-0008 refers to paragraph 3.B.e.3, this AD requires referring to paragraph 3.B.3 of ASB AS365-53.00.62 or ASB EC155-53A038, as applicable to your model helicopter.

(i) Special Flight Permit

Special flight permits, as described in 14 CFR 21.197 and 21.199, are not allowed.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Andrea Jimenez, Aerospace Engineer, COS Program Management Section, Operational Safety Branch, Compliance & Airworthiness Division, FAA, 1600 Stewart Ave., Suite 410, Westbury, NY 11590; telephone (516) 228-7330; email andrea.jimenez@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on July 15, 2021 (86 FR 30759, June 10, 2021).

(i) European Aviation Safety Agency (EASA) AD 2019-0008, dated January 22, 2019.

(ii) Airbus Helicopters Alert Service Bulletin ASB No. AS365-53.00.62, Revision 0, dated December 20, 2018.

(iii) Airbus Helicopters Alert Service Bulletin ASB No. EC155-53A038, Revision 0, dated December 20, 2018.

(3) For EASA AD 2019-0008, contact the EASA, Konrad-Adenauer-Ufer 3, 50668 Cologne, Germany; telephone +49 221 8999 000; email ADs@easa.europa.eu; internet www.easa.europa.eu. You may find this EASA AD on the EASA website at https://ad.easa.europa.eu. For Airbus Helicopters service information identified in this AD, contact Airbus Helicopters, 2701 North Forum Drive, Grand Prairie, TX 75052; telephone (972) 641-0000 or (800) 232-0323; fax (972) 641-3775; or at https://www.airbus.com/helicopters/services/technical-support.html.

(4) You may view this service information at the FAA, Office of the Regional Counsel, Southwest Region, 10101 Hillwood Pkwy., Room 6N-321, Fort Worth, TX 76177. For information on the availability of this material at the FAA, call (817) 222-5110. This material may be found in the AD docket on the internet at https://www.regulations.gov by searching for and locating Docket No. FAA-2021-0717.

(5) You may view this material that is incorporated by reference at the National Archives and Records Administration (NARA). For information on the availability of this material at NARA, email fr.inspection@nara.gov, or go to https://www.archives.gov/federal-register/cfr/ibr-locations.html.

Issued on August 23, 2021.
Gaetano A. Sciortino,
Deputy Director for Strategic Initiatives, Compliance & Airworthiness Division, Aircraft Certification Service.

[FR Doc. 2021-18441 Filed 8-24-21; 11:15 am]

BILLING CODE 4910-13-P